DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS mineral proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares an EA and FONSI for proposals that relate to exploration for and the development/production of oil and gas resources on the Gulf of Mexico OCS. The EA examines the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the EA.

This notice constitutes the public notice of availability of environmental documents required under the NEPA Regulations.

This listing includes all proposals for which a FONSI was prepared by the Gulf of Mexico OCS Region in the period subsequent to publication of the preceding notice.

Activity/operator | Location | Date
Kerr-McGee Oil & Gas Corporation, Development Operations, SEA No. N-07077 | East Breaks Area; Blocks 642, 643, 688 and 732; Leases OCS-G 09183, 09184, 09191 and 09194; 114 to 120 miles off the Texas Coast | 08/01/01
Chevron, U.S.A., Inc., Development Operations and Pipeline Activity, SEA Nos. S-05631, P-13389, P-13390, P-13391, P-13392 | Viosca Knoll Area, Blocks 340 and 251, Lease OCS-G 10933 and 10930, 30 to 38 miles south of Mobile County, Alabama | 08/01/01
Newfield Exploration Company, Structure Removal Activity, SEA No. ES/SR 01-059 | Ship Shoal Area, Block 145, Lease OCS-G 01014, 25 miles south-southwest of Terrebonne Parish, Louisiana, and 99 miles southeast of Intracoastal City, Louisiana | 07/18/01
Newfield Exploration Company, Structure Removal Activity, SEA No. ES/SR 01-060 | South Timbalier Area, Block 148, Lease OCS-G 1898, 132 miles southeast of Intracoastal City, Louisiana, and 31 miles south of Lafourche Parish, Louisiana | 08/10/01
BP America, Inc., Structure Removal Activity, SEA No. ES/SR 01-061 | South Timbalier Area, Block 161, Lease OCS G 01248, 32 miles south of Terrebonne Parish, Louisiana, and 53 miles southwest of Grand Isle, Louisiana | 07/27/01
BP America, Inc., Structure Removal Activity, SEA No. ES/SR 01-062 | Matagorda Island Area, Block 636, Lease OCS-G 13768, 16 miles southeast of Calhoun County, Texas, and 46 miles east-northeast of Harbor Island, Texas | 07/27/01
Walter Oil & Gas Corporation, Structure Removal Activity, SEA No. ES/SR 01-063 | Main Pass Area, Block 245, Lease OCS-G 14584, 71 miles east of Venice, Louisiana, and 49 miles southeast of Chandeleur Islands, Louisiana | 07/30/01
Phillips Petroleum Company, Structure Removal Activity, SEA No. ES/SR 01-064 | West Cameron Area, Block 116, Lease OCS-G 15058, 19 miles south of Cameron Parish, Louisiana, and 85 miles west southwest of Intracoastal City, Louisiana | 07/27/01
Barrett Resources Corporation, Structure Removal Activity, SEA No. ES/SR 01-065 | Brazos Area, Block 437, Lease OCS-G 04140, 11 miles southeast of Matagorda County, Texas, and 35 miles southwest of Freeport, Texas | 08/09/01
El Paso, Structure Removal Activity, SEA No. ES/SR 01-066 | Eugene Island Area, Block 216, Lease OCS-G 14470, 47 miles south-southeast of Terrebonne Parish, Louisiana, and 134 southeast of Cameron, Louisiana | 08/09/01
Shell Offshore, Inc., Structure Removal Activity, SEA No. ES/SR 01-067 | West Cameron Area, Block 270, Lease OCS-G 15073, 63 miles south-southeast of Cameron, Louisiana, and 56 miles south-southwest of Vermilion Parish, Louisiana | 08/09/01
Coastal, Structure Removal Activity, SEA No. ES/SR 01-068 | Matagorda Island Area, Block 639, OCS-G 04542, 29 miles south-southeast of Port O'Connor, Texas, and 21 miles southeast of Calhoun County, Texas | 08/09/01
Prime Natural Resources, Inc., Structure Removal Activity, SEA No. ES/SR 01-069 | High Island Area, Block 131, Lease OCS-G 14863, 51 miles southwest of Cameron, Louisiana, and 28 miles south of Jefferson County, Texas | 08/09/01
Callon Petroleum Company, Structure Removal Activity, SEA Nos. ES/SR 01-070 and 01-071 | Main Pass (South and East Addition) Area, Block 165, Lease OCS-G 05705, 27 miles east-southeast of St. Bernard Parish, Louisiana, and 61 miles northeast of Venice, Louisiana | 08/13/01
Agip Petroleum Company, Structure Removal Activity, SEA No. ES/SR 01-073 | Grand Isle Area, Block 102, Lease OCS-G 05662, 46 miles south-southeast of Lafourche Parish, Louisiana, and 48 miles south-southeast of Fourchon, Louisiana | 08/20/01
Kerr-McGee Oil & Gas Corporation, Structure Removal Activity, SEA No. ES/SR 01-075 | High Island Area, Block A 327, Lease OCS-G 02418, 113 miles south-southeast o Sabine, Texas, and 107 miles south-southeast of Jefferson County, Texas | 08/21/01
Tri-Union Development Corporation, Structure Removal Activity, SEA No. ES/SR 01-076 | Brazos Area, Block 476, Lease OCS-G 11274, 15 miles southeast of Matagorda County, Texas, and 88 miles southwest of Galveston, Texas | 08/23/01
Unocal, Structure Removal Activity, SEA No. ES/SR 99-114A | High Island Area, Block A 302, Lease OCS-G 02732, 91 miles southeast of Galveston County, Texas, and 97 miles southeast of SEA Freeport, Texas | 08/23/01

Persons interested in reviewing environmental documents for the proposals listed above or obtaining information about EA's and FONSI's prepared for activities on the Gulf of Mexico OCS are encouraged to contact MMS at the address or telephone in the FOR FURTHER INFORMATION section.

Dated: September 10, 2001.
Chris C. Oynes.
Regional Director, Gulf of Mexico OCS Region.

[FR Doc. 01-25027 Filed 10-4-01; 8:45 am]

BILLING CODE 4310-MR-P